DEPARTMENT OF COMMERCE

National Oceanic and Atmospheric Administration

RIN 0648-XG448

North Pacific Fishery Management Council; Public Meeting

AGENCY: National Marine Fisheries Service (NMFS), National Oceanic and Atmospheric Administration (NOAA), Commerce.

ACTION: Notice of public meeting.

SUMMARY: The North Pacific Fishery Management Council (Council) Fishery Monitoring Advisory Committee will meet September 13, 2018 through September 14, 2018.

DATES: The meeting will be held on Thursday, September 13, 2018, from 9 a.m. to 5:30 p.m. and on Friday, September 14, 2018, from 9 a.m. to 3 p.m. (or as needed).

ADDRESSES: The meeting will be held in Room 2039, Building 4, at the Alaska Fisheries Science Center, 7600 Sand Point Way NE, Seattle, WA 98115; Teleconference number: (907) 271-2896.

Council address: North Pacific Fishery Management Council, 605 W 4th Ave., Suite 306, Anchorage, AK 99501-2252; telephone: (907) 271-2809.

FOR FURTHER INFORMATION CONTACT: Elizabeth Figus, Council staff; telephone: (907) 271-2809.

SUPPLEMENTARY INFORMATION:

Agenda

Thursday, September 13, 2018 to Friday, September 14, 2018

The agenda will include: A discussion of EM updates (including latest developments from the trawl EM Committee), presentation of the draft Annual Deployment Plan, a review of the NMFS Observer Safety Document, and a discussion of observer analyses.

The Agenda is subject to change, and the latest version will be posted at www.npfmc.org prior to the meeting, along with meeting materials.

Public Comment

Public comment letters will be accepted and should be submitted either electronically to Elizabeth Figus, Council staff: Elizabeth.figus@noaa.gov or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: August 28, 2018.
Tracey L. Thompson,
Acting Deputy Director, Office of Sustainable Fisheries, National Marine Fisheries Service.

[FR Doc. 2018-18980 Filed 8-30-18; 8:45 am]

BILLING CODE 3510-22-P